DEPARTMENT OF EDUCATION

Notice of Proposed Information Collection Requests

AGENCY: Department of Education.

ACTION: Notice of Proposed Information Collection Requests.

SUMMARY: The Secretary of Education requests comments on a modified 2008-2009 Application for Federal Student Aid (FAFSA). The College Cost Reduction and Access Act of 2007 establishes, effective with the 2008-2009 award year, the Teacher Education Assistance for College and Higher Education (TEACH) Grant program, which provides up to $4,000 a year in grant assistance to students who plan on being a teacher and meet certain specified requirements. Through an updated FAFSA, Federal Student Aid will assure that students are aware of the TEACH Grant program, the program's eligibility criteria, and that students will indicate their plans to pursue a teaching career. The Department proposes to accomplish this by asking the following question on the FAFSA on the Web: “Are you planning on completing coursework, now or in the future, necessary for you to become an elementary or secondary school teacher? A ‘YES' response to this question will allow your school to provide you with additional information on a new federal program for students who meet certain conditions and plan on becoming teachers.”

The FAFSA is completed by students and their families and the information submitted on the form is used to determine the students' eligibility and financial need for financial aid under the student financial assistance programs authorized under Title IV of the Higher Education Act of 1965, as amended (Title IV, HEA Programs).

DATES: An emergency review has been requested in accordance with the Act (44 U.S.C. Chapter 3507 (j)), since public harm is reasonably likely to result if normal clearance procedures are followed. Approval by the Office of Management and Budget (OMB) has been requested by December 28, 2007.

ADDRESSES: Written comments regarding the emergency review should be addressed to the Office of Information and Regulatory Affairs, Attention: Bridget Dooling, Desk Officer, Department of Education, Office of Management and Budget; 725 17th Street, NW., Room 10222, New Executive Office Building, Washington, DC 20503, or faxed to (202) 395-6974.

Dated: December 13, 2007.
Angela C. Arrington,
IC Clearance Official, Regulatory Information Management Services, Office of Management.

Federal Student Aid

Type of Review: Revision.

Title: Free Application for Federal Student Aid (FAFSA).

Frequency: Annually.

Affected Public: Individuals and families.

Annual Reporting and Recordkeeping Hour Burden:

Responses: 16,787,640.

Burden Hours: 8,054,467.

Abstract: The College Cost Reduction and Access Act of 2007 establishes, effective with the 2008-2009 award year, the Teacher Education Assistance for College and Higher Education (TEACH) Grant Program, which provides up to $4,000 a year in grant assistance to students who plan on being a teacher and meet certain specified requirements. Because the 2008-2009 FAFSA Paperwork Reduction Act (PRA) burden hour estimate (approved December 2006) does not include the burden associated with reading and responding to a new TEACH grant question (the TEACH grant did not exist at that time) we are submitting this request for an emergency clearance of an updated 2008-2009 FAFSA. Through the updated FAFSA, we are striving to make students aware of the TEACH Grant program and the eligibility criteria, in addition to determining their plans to pursue a teaching career. We propose to accomplish this by asking the following question on FAFSA on the Web: “Are you planning on completing coursework, now or in the future, necessary for you to become an elementary or secondary school teacher? A ‘'YES' response to this question will allow your school to provide you with additional information on a new federal program for students who meet certain conditions and plan on becoming teachers.”

Requests for copies of the proposed information collection request may be accessed from http://edicsweb.ed.gov, by selecting the “Browse Pending Collections” link and clicking on “Download attachments” to view. Written requests for information should be addressed to U.S. Department of Education, 400 Maryland Avenue, SW., Potomac Center, 9th Floor, Washington, DC 20202-4700. Requests may also be electronically mailed to ICDocketMgr@ed.gov or faxed to (202) 245-6623. Please specify the complete title of the information collection when making your request. Comments regarding burden and/or the collection activity requirements should be directed to the e-mail address ICDocketMgr@ed.gov. Individuals who use a telecommunications device for the deaf (TDD) may call the Federal Information Relay Service (FIRS) at 1-800-877-8339 between 8 a.m. and 8 p.m., Eastern time, Monday through Friday.

[FR Doc. E7-24452 Filed 12-14-07; 8:45 am]

BILLING CODE 4000-01-P